DEPARTMENT OF AGRICULTURE

Forest Service

Information Collection; Request for Comments; Urgent Removal of Timber

AGENCY: Forest Service, USDA.

ACTION: Notice.

SUMMARY: In accordance with the Paperwork Reduction Act of 1995, the Forest Service is seeking comments from all interested individuals and organizations on the extension of an information collection associated with timber sale contract term extensions for urgent removal of salvage timber from other than National Forest system lands. Regulations at 36 CFR 223.53 allow timber sale purchasers to ask for extensions of certain National Forest timber sale contracts when the manufacturing facilities or logging equipment capacity available to purchasers are insufficient to provide for both the rapid harvest of damaged non-National Forest System timber in need of expeditious removal and the continued harvest of undamaged (green) timber under contract with the Forest Service. When requesting an urgent removal extension purchasers are required to provide documentation supporting the need. The collected information is necessary for the contracting officer to make a determination whether the purchaser meets the conditions for receiving an urgent removal extension on one or more National Forest System timber sale contracts.

DATES: Comments must be received in writing on or before April 17, 2006 to be assured of consideration. Comments received after that date will be considered to the extent practicable.

ADDRESSES: Comments concerning this notice should be addressed to Director, Forest Management, 1400 Independence Avenue, SW., Mail Stop 1103, Washington, DC 20250-0003.

Comments also may be submitted via facsimile to (202) 205-1045 or by e-mail to: urgentremoval@fs.fed.us. In addition, comments may be submitted via the World Wide Web/Internet Web site at: http://www.regulations.gov. All comments, including names and addresses when provided, are placed in the record and are available for public inspection and copying. Conditions that must be met for obtaining an Urgent Removal Contract Term Extension are detailed in Title 36 of the Code of Federal Regulations, section 223.53, and can be viewed on the World Wide Web/Internet site at: http://www.access.gpo.gov/nara/cfr/waisidx_05/36cfr223_05.html. Alternatively, these can be viewed in the Office of the Director, Forest Management, Third Floor, Southwest Wing, Yates Building, 201 14th Street, SW., Washington, DC. Visitors are encouraged to call ahead at (202) 205-1496 to facilitate entry into the building.

FOR FURTHER INFORMATION CONTACT: Lathrop Smith, Forest Management Staff, at (202) 205-0858, or Richard Fitzgerald, Forest Management Staff, at (202) 205-1753. Individuals who use telecommunication devices for the deaf (TDD) may call the Federal Relay Service (FRS) at 1-800-877-8339 twenty-four hours a day, every day of the year, including holidays.

SUPPLEMENTARY INFORMATION: Title: Urgent Removal of Timber.

OMB Number: 0596-0167.

Expiration Date of Approval: June 30, 2006.

Type of Request: Extension of currently approved collection.

Abstract: In order to facilitate the expeditious removal of timber in other ownerships damaged by catastrophic events beyond the landowner's control, the Forest Service promulgated a final rule at § 223.53 of Title 36 of the Code of Federal Regulations on January 2, 2004 (69 FR 29).

Periodically, catastrophic events such as severe drought conditions, insect and disease outbreaks, wildfires, floods, and windthrow occur on forested lands within, or near, NFS lands. As a result of such catastrophic events, substantial amounts of private and other public timber may be severely damaged. This damaged timber must be harvested within a relatively short time period to avoid substantial losses due to deterioration in both the quantity and quality of the timber. The critical time period for harvesting this damaged timber and avoiding substantial deterioration varies with the season of the year, the species of timber, the damaging agent, and the location of the damaged timber. In most cases, substantial deterioration can be avoided if the damaged timber is harvested within 1 year of the catastrophic event. The number of wildfires, and the extent of damage to public and private forested land experienced in recent years resulted in the Forest Service adjusting its contracting procedures to support the urgent removal of damaged timber on non-NFS lands.

This information collection provides data to permit the discretionary extension of certain National Forest System timber sale contracts by the Contracting Officer. Such extensions will allow purchasers to divert resources to harvesting damaged timber, located on private or non-NFS public lands, which is in need of urgent removal. Catastrophic events which may result in the need for urgent removal of damaged timber include, but are not limited to, fire, flood, insect and disease infestations, drought, and windthrow.

The intended effects of this information collection is to assure that extensions of the time allowed to harvest National Forest System timber sale contracts are consistent with the requirements of the National Forest Management Act (16 U.S.C. 472a), while minimizing the loss of National Forest System timber adjacent to other timber infested with insects and disease or damaged by fire; reduce the threat to public safety and property resulting from such catastrophic events; and promote the wise use and conservation of the natural resources.

The National Forest Management Act (16 U.S.C. 472a) requires that extensions of contract time shall not be granted unless “the purchaser has diligently performed in accordance with an approved plan of operation or that the substantial overriding public interest justifies the extension.” Regulations at 36 CFR 223.115 mirror the National Forest Management Act.

Regulations at 36 CFR 223.53(b) require the Regional Forester to verify in writing that: (1) A specific catastrophe occurred for which urgent removal extensions should be granted; and (2) Failure to harvest the damaged non-National Forest System timber promptly could result in the following: (i) Pose a threat to public safety, (ii) Create a threat of an insect or disease epidemic to National Forest System or other lands or resources, or (iii) Significant private or other public resource loss.

Following such a determination, to obtain an urgent removal extension on a National Forest System timber sale contract, a purchaser must make a written request to the contracting officer which includes the following: (1) An explanation of why the harvest of undamaged (green) National Forest System timber within the term of the existing National Forest System contract(s) will prevent or otherwise impede the removal of damaged non-National Forest System timber in need of expeditious removal; and (2) Documentation that the manufacturing facilities or logging equipment capacity available to the purchaser would be insufficient to provide for both the rapid salvage of damaged non-National Forest System timber in need of expeditious removal and continued harvest of undamaged (green) National Forest System timber under contract with the Forest Service.

The contracting officer must obtain the information provided by the purchaser to verify that there is a legitimate need to grant the request for urgent removal extension(s) in accordance with the regulations at 36 CFR 223.53.

Information will be collected in writing. Electronic technology is not appropriate for collecting site-specific, one-time information. Facsimile extension applications are acceptable. Each request for an urgent removal extension is unique. There is no duplication of information and the information is only available from the timber sale purchaser. Only the minimum amount of information required to make the contracting officer's determination is collected.

The Forest Service cannot assure that it meets its statutory requirements in the National Forest Management Act for extending timber sale contracts if the information collection is not conducted or is conducted less frequently.

Estimate of Annual Burden: The public reporting burden to provide information when requesting a timber sale contract urgent removal extension is estimated to average 6 hours per response.

Type of Respondents: Individuals, large and small businesses, and corporations purchasing National Forest System timber sales.

Estimated Annual Number of Respondents: 25.

Estimated Annual Number of Responses per Respondent: 1 per year.

Estimated Total Annual Burden on Respondents: 150 hours.

Comment is Invited

Comment is invited on: (1) Whether the proposed collection of information is necessary for the stated purposes and the proper performance of the functions of the agency, including whether the information will have practical or scientific utility; (2) the accuracy of the agency's estimate of the burden of the proposed collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will become a matter of public record. Comments will be summarized and included in the request for Office of Management and Budget approval.

Dated: February 1, 2006.
Frederick Norbury,
Associate Deputy Chief, NFS.

[FR Doc. E6-2281 Filed 2-15-06; 8:45 am]

BILLING CODE 3410-11-P